DEPARTMENT OF THE INTERIOR

National Park Service

Notice of Inventory Completion: Alaska State Office, Bureau of Land Management, Anchorage, AK; Arizona State Museum, University of Arizona, Tucson, AZ; and Museum of the Aleutians, Unalaska, AK

AGENCY: National Park Service, Interior.

ACTION: Notice.

Notice is here given in accordance with the Native American Graves Protection and Repatriation Act (NAGPRA), 25 U.S.C. 3003, of the completion of an inventory of human remains in the control of the Alaska State Office, Bureau of Land Management, Anchorage, AK, and in the possession of the Arizona State Museum, University of Arizona, Tucson, AZ, and Museum of the Aleutians, Unalaska, AK. The human remains were removed from St. Lawrence Island, AK.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Alaska State Office, Bureau of Land Management; Arizona State Museum; Museum of the Aleutians; and Smithsonian Institution professional staff in consultation with representatives of the Native Village of Savoonga.

In 1928, human remains representing a minimum of two individuals were removed from an unknown location on St. Lawrence Island, AK, by the now-deceased Otto Geist. The human remains were reportedly collected from the surface and the condition of the bone indicates exposure to the elements. The human remains were donated to the University of Alaska Museum at an unknown date. In 1941, the human remains were sent to the Arizona State Museum as part of an exchange. No known individuals were identified. No associated funerary objects are present.

At an unknown date in the 1950s or 1960s, human remains representing a minimum of one individual were removed from an unknown location on St. Lawrence Island, AK, by an unknown person. The human remains were probably collected from the surface because the condition of the bone indicates exposure to the elements. The human remains came into the possession of the now-deceased Dr. William Laughlin of the University of Wisconsin at an unknown date and under unknown circumstances. In 1999, the human remains were sent to the Museum of the Aleutians. No known individual was identified. No associated funerary objects are present.

Cranial characteristics of all three sets of human remains are highly consistent with Native American ancestry. The Native Village of Savoonga is located on St. Lawrence Island. Ethnohistorical data indicate a continuity of cultural occupation of St. Lawrence Island from approximately A.D. 300 to the present. Oral tradition presented by representatives of the Native Village of Savoonga supports this evidence of occupation. Based on the provenience and condition of the human remains, the human remains are determined to be Native American and ancestors of the members of the Native Village of Savoonga.

Officials of the Alaska State Office, Bureau of Land Management; Arizona State Museum; and Museum of the Aleutians have determined that, pursuant to 25 U.S.C. 3001 (9-10), the human remains described above represent the physical remains of three individuals of Native American ancestry. Officials of the Alaska State Office, Bureau of Land Management; Arizona State Museum; and Museum of the Aleutians also have determined that, pursuant to 25 U.S.C. 3001 (2), there is a relationship of shared group identity that can be reasonably traced between the Native American human remains and the Native Village of Savoonga.

Representatives of any other Indian tribe that believes itself to be culturally affiliated with the human remains should contact Dr. Robert E. King, Alaska State NAGPRA Coordinator, Bureau of Land Management, 222 W. 7th Avenue, Box 13, Anchorage, AK 99513-7599, telephone (907) 271-5510, before June 23, 2008. Repatriation of the human remains to the Native Village of Savoonga may proceed after that date if no additional claimants come forward.

The Alaska State Office, Bureau of Land Management is responsible for notifying the Native Village of Savoonga that this notice has been published.

Dated: April 7, 2008.
Sherry Hutt,
Manager, National NAGPRA Program.

[FR Doc. E8-11573 Filed 5-22-08; 8:45 am]

BILLING CODE 4312-50-S